ENVIRONMENTAL PROTECTION AGENCY

[FRL-9792-7]

Proposed Reissuance of a General NPDES Permit for Oil and Gas Exploration Facilities in the Federal Waters of Cook Inlet—Permit Number AKG-28-5100

AGENCY: Environmental Protection Agency (EPA).

ACTION: Notice. Proposed reissuance of a general permit.

SUMMARY: The EPA proposes to reissue the National Pollutant Discharge Elimination System (NPDES) for Oil and Gas Exploration Facilities in Federal Waters of Cook Inlet (AKG 31-5000). As proposed, the permit would authorize certain discharges of pollutants into Cook Inlet Federal Waters from oil and gas exploration facilities subject to limits and requirements designed to minimize pollution and protect water quality.

DATES: Comments. Interested persons may submit comments on the proposed reissuance of the general permit to EPA, Region 10 at the address below. Comments must be postmarked by May 21, 2013.

Public Hearings. Public Hearings are scheduled for the following dates, and locations:

(1) Kenai, AK on April 29, 2013, 6:00 to 9:00 p at the Kenai Chamber of Commerce and Visitors Center, 11471 Kenai Spur Hwy, Kenai, AK 99611

(2) Homer, AK on April 30, 2013 at the Alaska Maritime National Wildlife Refuge Island & Ocean Visitor Center Auditorium, 95 Sterling Highway, Suite 1, Homer, AK 99603

(3) Anchorage, AK on May 2, 2013 at the University of Alaska Gorsuch Commons Building, Conference Room 106, 3700 Sharon Gagnon Lane, Anchorage, AK 98508

All hearings will begin at 6:00 p.m. and will continue until all testimony is heard or until 9:00 p.m., whichever is earlier. Hearing statements may be provided orally or in written format. Commenters providing oral testimony are encouraged to provide written statements to ensure accuracy of the record.

ADDRESSES: Comments on the proposed general permit reissuance should be sent to the attention of the Director, Office of Water & Watersheds, EPA—Region 10, 1200 Sixth Avenue Suite 900 OWW-130, Seattle, WA 98101. Comments may also be submitted electronically to godsey.cindi@epa.gov.

FOR FURTHER INFORMATION CONTACT: Copies of the proposed general permit, Fact Sheet and Ocean Discharge Criteria Evaluation are available upon request. Requests may be made to Audrey Washington at (206) 553-0523 or to Cindi Godsey at (907) 271-6561. Requests may also be electronically mailed to: washington.audrey@epa.gov or godsey.cindi@epa.gov. These documents may also be found on the EPA Region 10 Web site at http://yosemite.epa.gov/r10/WATER.NSF/NPDES+Permits/DraftPermitsAK.

SUPPLEMENTARY INFORMATION: The existing NPDES General Permit for Oil and Gas Exploration, Development and Production Facilities Located in State and Federal Waters in Cook Inlet, NPDES Permit No. AKG-31-5000 (2007 Permit) expired on July 2, 2012. The 2007 Permit authorized discharges from 19 facilities, all located in State Waters, and continues in effect for facilities that applied in a timely manner. The 2007 Permit for discharge to State Waters was transferred to Alaska Department of Environmental Conservation (ADEC) in 2013 following resolution of a permit appeal pursuant to the Memorandum of Agreement between EPA and ADEC. Once ADEC reissues permits that cover the discharges to State Waters, coverage under the 2007 permit will end. As proposed, the EPA's Permit AKG 28-5100 would reissue the exploration component of the 2007 Permit in Federal Waters. Concurrently, ADEC is taking action to reissue the exploration permit in State Waters.

Executive Order 12866: The Office of Management and Budget exempts this action from the review requirements of Executive Order 12866 pursuant to Section 6 of that order.

Regulatory Flexibility Act: Under the Regulatory Flexibility Act (RFA), 5 U.S.C. 601 et seq., a Federal agency must prepare an initial regulatory flexibility analysis “for any proposed rule” for which the agency “is required by section 553 of the Administrative Procedure Act (APA), or any other law, to publish general notice of proposed rulemaking.” The RFA exempts from this requirement any rule that the issuing agency certifies “will not, if promulgated, have a significant economic impact on a substantial number of small entities.” EPA has concluded that NPDES general permits are permits, not rulemakings, under the APA and thus not subject to APA rulemaking requirements or the RFA. Notwithstanding that general permits are not subject to the RFA, EPA has determined that this GP, as issued, will not have a significant economic impact on a substantial number of small entities.

Dated: March 14, 2013.
Daniel D. Opalski,
Director, Office of Water & Watersheds, Region 10.

[FR Doc. 2013-06669 Filed 3-21-13; 8:45 am]

BILLING CODE 6560-50-P